DEPARTMENT OF HEALTH AND HUMAN SERVICES

Centers for Medicare & Medicaid Services

[CMS-1528-N]

Medicare Program; Medicare Provider Feedback Group (MPFG) Town Hall Meeting September 20, 2006

AGENCY: Centers for Medicare & Medicaid Services (CMS), HHS.

ACTION: Notice of meeting.

SUMMARY: This notice announces a town hall meeting on the Medicare Provider Feedback Group (MPFG). The purpose of the meeting is to solicit the opinions of individual Medicare physicians, providers, and suppliers on selected policies and operational issues that affect providers that participate in the Medicare program. In addition, we will be soliciting input on how we can better serve the Medicare providers and suppliers. All Medicare providers and suppliers that participate in the Medicare program, including physicians, hospitals, home health agencies, and other third-party billers, are invited to attend this meeting. We will consider facts and opinions obtained from individual Medicare physicians, providers, and suppliers. We will use the information obtained during the meeting as feedback on selected policy issues and on CMS provider and supplier communication activities and related topics.

The meeting is open to the public, but attendance is limited to space available. Registered participants from the meeting may be contacted for follow-up meetings to solicit additional opinions and clarify any issues that may arise from the September 20, 2006 meeting.

DATES: The meeting is scheduled for September 20, 2006 from 2 p.m. until 4 p.m. e.d.t.

ADDRESSES: The meeting will be held in the auditorium at the Centers for Medicare & Medicaid Services, 7500 Security Boulevard, Baltimore, Maryland 21244.

FOR FURTHER INFORMATION CONTACT: Colette Shatto, 410-786-6932. You may also send e-mail inquiries about this meeting to MFG@cms.hhs.gov.

SUPPLEMENTARY INFORMATION:

I. Background

On November 16, 2004, we held the first Medicare Provider Feedback town hall meeting to solicit the opinions of individual Medicare physicians, providers, and suppliers. Topics discussed during the November 16 meeting included Medicare Fee-for-Service (FFS) Chronic Care Improvement Programs, CMS electronic medical records, CMS Provider Outreach, and consolidated billing. Subsequent to the meeting, we conducted follow-up meetings to clarify information received and solicited additional opinions. The information gathered from the town hall and subsequent meetings was used as feedback on our provider and supplier communication activities and related topics.

On September 12, 2005, we convened the second town hall meeting to solicit the opinions of individual Medicare physicians, providers, and suppliers on how we could better serve Medicare physicians, providers, and suppliers through communications, educational material, and other means. This meeting also focused on our design for gathering individual physician, provider, and supplier information, presented topics for provider and supplier input, and then solicited opinions on how we can better serve the Medicare physician, provider, and supplier community.

II. Meeting Format

The meeting will begin with an overview of the goals and objectives of the initiative, including a discussion of our efforts to gather feedback from individual Medicare physicians, providers, and suppliers. The meeting moderator will be introduced, and, along with members of the Provider Communications Group, the Center for Medicare Management of CMS, will provide background information on the initiative. Topics to be discussed during the meeting include, but are not limited to the implementation of the National Provider Identifier (NPI), the Pay for Performance initiative, Part D Compliance, Durable Medical Equipment (DME) Accreditation and Medicare Contracting. This meeting will provide the Agency with an open and public venue to interact with individual Medicare physicians, providers and suppliers and obtain their feedback on Medicare policy and operational issues. We will then hold a question and answer session that offers meeting attendees an opportunity to provide feedback on how CMS serves physicians, providers, and suppliers, as well as make suggestions on how this process can be improved.

Attending the Meeting: The Provider Communications Group, Center for Medicare Management, Division of Provider Relations and Evaluations, is the coordinator for this meeting. This meeting will be held in a Federal Government building, and persons attending the meeting will be required to show a photographic identification, preferably a valid driver's license, and be listed on an approved security list before entering. Persons interested in attending the meeting and providing feedback must complete the on-line registration located at http://registration.mshow.com/cms2/.

III. Registration Instructions

Registration will open on August 25, 2006 and close on September 18, 2006. The on-line registration system will generate a confirmation page to indicate the completion of your registration. Please print this page as your registration receipt. Registration after 5 p.m. on September 18, 2006 will delay confirmation and individuals may not be permitted entrance to the building.

Individuals may participate in the public meeting by teleconference. The dial-in number is 877-357-7851 and the conference identification number is 2323964. Physicians and other interested parties may speak or ask questions during the question and answer period facilitated by the moderator. Parties may also submit written comments to Colette Shatto at MFG@cms.hhs.gov.

An on-line registration tool is available for interested individuals who wish to participate in the meeting in person or by teleconference. The on-line registration system will capture contact information and practice characteristics, such as names, e-mail addresses, and provider and supplier types.

Special Accommodations: Individuals requiring sign language interpretation or other special accommodations must contact Colette Shatto by e-mail at MFG@cms.hhs.gov.

Authority: Section 1811 and 1831 of the Social Security Act (42 U.S.C. 1395c and 1395j).

(Catalog of Federal Domestic Assistance Program No. 93.774, Medicare—Supplementary Medical Insurance Program)

Dated: August 3, 2006.
Mark B. McClellan,
Administrator, Centers for Medicare & Medicaid Services.

[FR Doc. E6-13379 Filed 8-24-06; 8:45 am]

BILLING CODE 4120-01-P